DEPARTMENT OF DEFENSE

Department of the Army, Corps of Engineers

Availability of the Supplemental Draft Environmental Impact Statement for the Northern Integrated Supply Project, Larimer and Weld Counties, Colorado

AGENCY: Department of the Army, U.S. Army Corps of Engineers, DoD.

ACTION: Notice of Availability.

SUMMARY: The U.S. Army Corps of Engineers (Corps) Omaha District has prepared a Supplemental Draft Environmental Impact Statement (EIS) to analyze the direct, indirect, and cumulative effects of a water supply project called the Northern Integrated Supply Project (NISP or Project) in Larimer County and Weld County, CO. The purpose of the project is to provide the project participants with approximately 40,000 acre-feet (AF) of new, reliable municipal water supply annually through a regional project coordinated by the Northern Colorado Water Conservancy District (District). The participants in NISP requested new firm yield to meet a portion of their projected demand through 2060. The requests for new firm yield are based on the participants' analyses of their projected needs, the potential future demands as modeled by the District and verified by the Corps. NISP would result in direct impacts to jurisdictional waters of the United States (U.S.), including wetlands. The placement of fill material in these waters of the U.S. for the construction of water storage and distribution facilities associated with developing additional water supplies requires authorization from the Corps under Section 404 of the Clean Water Act. The District is the Permittee and Applicant, acting on behalf of the project participants.

The Supplemental Draft EIS was prepared in accordance with the National Environmental Policy Act of 1969, as amended (NEPA), and the Corps' regulations for NEPA implementation (33 Code of Federal Regulations [CFR] Parts 230 and 325, Appendices B and C). The Corps, Omaha District, Denver Regulatory Office is the lead federal agency responsible for the Supplemental Draft EIS. Information contained in the EIS serves as the basis for a decision regarding issuance of a Section 404 Permit. It also provides information for local and state agencies having jurisdictional responsibility for affected resources.

DATES: Written comments on the Supplemental Draft EIS will be accepted on or before August 4, 2015.

ADDRESSES: Send written comments regarding the Proposed Action and Supplemental Draft EIS to John Urbanic, NISP EIS Project Manager, U.S. Army Corps of Engineers, Omaha District, Denver Regulatory Office, 9307 South Wadsworth Boulevard, Littleton, CO 80128, or via email to nisp.eis@usace.army.mil. Requests to be placed on or be removed from the NISP mailing list should also be sent to this address.

FOR FURTHER INFORMATION CONTACT: John Urbanic, NISP EIS Project Manager, via phone at 303-979-4120, fax at 303-979-0602, or email at nisp.eis@usace.army.mil.

SUPPLEMENTARY INFORMATION: The Corps released a Draft EIS for NISP on April 30, 2008. After receiving comments on the Draft EIS during the public notice period and during the public hearings, the Corps determined that substantial additional analysis was needed and that the preparation of a Supplemental Draft EIS was required. The purpose of the Supplemental Draft EIS is to provide decision-makers and the public with information pertaining to the Proposed Action and alternatives, and to disclose environmental impacts and identify mitigation measures to reduce impacts. The District proposes to construct Glade Reservoir with a total storage capacity of approximately 170,000 AF. The District also proposes to construct the South Platte Water Conservation Project (SPWCP) which includes Galeton Reservoir with a total storage capacity of approximately 45,624 AF and support facilities. The Proposed Action would also involve rehabilitating an existing diversion dam and intake structure in the Cache la Poudre River and constructing a new forebay, pumping facility, and outlet channel. Glade Reservoir would inundate approximately 7 miles of U.S. Highway 287 and a section of the Munroe (North Poudre Supply) Canal, requiring a relocation of the highway and the canal east of their current alignments. Construction of a new pipeline from Glade Reservoir to the existing Horsetooth Reservoir, a part of the Colorado-Big Thompson project, is also proposed. Additionally, the SPWCP includes the construction of a new diversion dam and intake structure in the South Platte River, pumping facilities, and new pipelines for Galeton Reservoir.

The purpose for the project is to provide additional firm annual yield to the 15 water providers and communities to address anticipated water demands associated with projected growth. Operations of the reservoirs involve an exchange of water that includes a diversion from the Poudre River at the Poudre Valley Canal for the District's Grey Mountain water right, SPWCP exchanges with Larimer-Weld Canal and New Cache Canal, and reservoir exchanges with Terry Lake, Big Windsor Reservoir, and Timnath Reservoir.

In addition to the Proposed Action, the Supplemental Draft EIS analyzes three primary alternatives: (1) The No Action Alternative; (2) the Cactus Hill Reservoir (190,000 AF), SPWCP (45,624 AF Galeton Reservoir), and Poudre Valley Canal Diversion Alternative ; and (3) the Cactus Hill Reservoir (190,000 AF), SPWCP (45,624 AF Galeton Reservoir), and Multiple Diversion Locations Alternative.

The U.S. Environmental Protection Agency Region VIII, U.S. Fish and Wildlife Service, Bureau of Reclamation, Colorado Department of Transportation, Colorado Department of Natural Resources, Colorado Department of Public Health and Environment, and Larimer County participated as cooperating agencies in the formulation of the Supplemental Draft EIS.

Public Open Houses and Hearings for oral/written comments will be held on:

July 22, 2015 at the Hilton Fort Collins, 425 W. Prospect Road, Fort Collins, and July 23, 2015 at the Weld County Administration Building, 1152 O Street, Greeley. The Open House will be from 5 p.m. to 6 p.m. The Hearings will begin at 6 p.m. Copies of the Supplemental Draft EIS will be available for review at:

1. Colorado State University Morgan Library, 501 University Avenue, Fort Collins, CO 80523.

2. Poudre River Public Library District-Old Town Library, 201 Peterson Street, Fort Collins, CO 80524.

3. Poudre River Public Library-Harmony Library, 4616 S. Shields Street, Fort Collins, CO 80526.

4. University of Northern Colorado, James A. Michener Library, Greeley, CO 80639.

5. Fort Morgan Public Library, 414 Main Street, Fort Morgan, CO 80701.

6. Windsor Recreation Center, 250 11th Street, Windsor, CO 80550.

7. Northern Colorado Water Conservancy District, 220 Water Avenue, Berthoud, CO 80513.

8. U.S. Army Corps of Engineers, Denver Regulatory Office, 9307 S. Wadsworth Boulevard, Littleton, CO 80128.

Electronic copies of the Supplemental Draft EIS and its supporting documents may be obtained from the Denver Regulatory Office or its Web site at: http://www.nwo.usace.army.mil/Missions/RegulatoryProgram/Colorado/EISNISP

Kiel Downing,
State Regulatory Program Manager, U.S. Army Corps of Engineers, Omaha District, Denver Regulatory Office.

[FR Doc. 2015-15055 Filed 6-18-15; 8:45 am]

BILLING CODE 3720-58-P